DEPARTMENT OF TRANSPORTATION

Federal Aviation Administration

Supplemental Environmental Assessment (EA) for the East Kern Airport District (EKAD) Launch Site Operator License for the Mojave Airport, California

AGENCY: Federal Aviation Administration (FAA), Department of Transportation.

ACTION: Cancellation notice.

SUMMARY: On October 22, 2004, the FAA published a Notice of Availability and Request for Comment on a Draft Supplemental EA for the EKAD Launch Site Operator License for the Mojave Airport, California in the Federal Register (69 FR 62113). The FAA has decided to cancel the preparation of the Final Supplemental EA. The Notice of Availability and Request for Comment is hereby rescinded.

FOR FURTHER INFORMATION CONTACT: Questions may be directed to Doug Graham, FAA Environmental Specialist, c/o ICF Consulting, 9300 Lee Highway, Fairfax, VA 22031 or (202) 267-8568.

Date Issued: December 6, 2004.
Place Issued: Washington, DC.
Herbert Bachner,
Manager, Space Systems Development Division.

[FR Doc. 04-27219 Filed 12-10-04; 8:45 am]

BILLING CODE 4910-13-P